DEPARTMENT OF LABOR

Employment and Training Administration

[TA-W-52,773]

Lebanite Corporation, Hardboard Division, Now Known as Oregon Panel Products, Inc., Lebanon, OR; Notice of Termination of Amendment to Certification Regarding Eligibility To Apply for Worker Adjustment Assistance and Alternative Trade Adjustment Assistance

In accordance with Section 223 of the Trade Act of 1974 (19 U.S.C. 2273) the Department of Labor issued an Amended Certification of Eligibility to Apply for Worker Adjustment Assistance on June 14, 2004 applicable to workers of Lebanite Corporation, Hardboard Division, Now Known As Oregon Panel Products, Inc., Lebanon, Oregon. The notice was published in the Federal Register on July 1, 2004 (69 FR 39971).

At the request of the petitioners, the Department amended the certification for workers of the subject facility to include workers of what was thought to be a successor company, Oregon Panel Products, LLC, Lebanon, Oregon. The workers were engaged in the production of high density hardboard.

New information shows that although operations at the subject facility were undertaken by Oregon Panel Products, LLC, there is no successor-in-interest status. There was a three month break in operations between the shutdown of the Lebanite Corporation, and the start up of Oregon Panel Products. Workers separated from employment at the subject facility had their wages reported under a separate unemployment insurance (UI) tax account for Oregon Panel Products, LLC.

Furthermore, the workers of Oregon Panel Products, LLC, Lebanon Oregon are covered by another petition instituted on June 2, 2004 (TA-W-55,009).

Accordingly, the Department is terminating the amendment to properly reflect this matter.

The amendment to TA-W-52,773 is hereby terminated, and the original notice applicable to TA-W-52,773 is hereby re-issued as follows:

• All workers of Lebanite Corporation, Hardboard Division, Lebanon, Oregon, who became totally or partially separated from employment on or after November 1, 2002, through October 29, 2005, are eligible to apply for adjustment assistance under Section 223 of the Trade Act of 1974.”

Signed at Washington, DC, this 5th day of August 2004.
Richard Church,
Certifying Officer, Division of Trade Adjustment Assistance.

[FR Doc. 04-18740 Filed 8-16-04; 8:45 am]

BILLING CODE 4510-30-P